CORPORATION FOR NATIONAL AND COMMUNITY SERVICE

Availability of Funds for AmeriCorps*VISTA/Higher Education and Non-Profit Service-Learning Program Grants

AGENCY: Corporation for National and Community Service.

ACTION: Notice of availability of funds.

SUMMARY: The Corporation for National and Community Service (hereinafter “the Corporation”) announces the availability of funds for fiscal year 2000 for new AmeriCorps*VISTA (Volunteers in Service to America) Program grants and placements focusing on meeting the needs of low income communities, both urban and rural, through institutions of higher learning and non-profit organizations engaged in service-learning-focused activities, including current Learn and Serve America grantees.

As Harris Wofford, the CEO for the Corporation has stated, “by making the entire community the classroom, service-learning teaches students how to be better students and better citizens.” The Corporation for National Service defines service-learning as an educational method:

• Under which students or participants learn and develop through active participation in thoughtfully organized service that is conducted in and meets the needs of a community;

• Which is coordinated within an elementary school, secondary school, institution of higher education, or community service program, and with the community;

• Which helps foster civic responsibility;

• Which is integrated into and enhances the academic curriculum of the students, or the educational components of the community service program in which the participant is enrolled; and

• Which provides structured time for the students or participants to reflect on the service experience.

AmeriCorps*VISTA/Higher Education and Non-Profit Service-Learning Program Grants will focus on service-learning activities addressing the needs of low-income communities in school districts. AmeriCorps*VISTA Program grant recipients must create sustainable anti-poverty service-learning programs after the AmeriCorps*VISTA resources are withdrawn. Applicants must clearly describe sustainable outcomes in terms of the impact on residents of low-income communities, both urban and rural, through the efforts of these projects.

Up to 10 grants will be funded. Each grant will support a minimum of five AmeriCorps*VISTA members. Grants with a larger number of AmeriCorps*VISTA members are encouraged. It is expected that grants will be awarded in September 2000. Each proposed grant project must be within the jurisdiction of a single Corporation for National Service State Office (state offices cover their own states only, with the following exceptions that are combined: Maine & New Hampshire, Vermont & Massachusetts; North & South Dakotas; Virginia & Washington, DC; Puerto Rico & Virgin islands; Maryland & Delaware).

DATES: Applications must be received by 5:00 p.m. E.D.T., August 4, 2000.

ADDRESSES: Background information, including project applications, are available from the Corporation for National and Community Service, AmeriCorps*VISTA, 1201 New York Ave., N.W., Washington, DC 20525, (202) 606-5000, ext. 134; TDD (202) 565-2799, or TTY via the Federal Information Relay Service at (800) 877-8339. One signed original and two copies of the application should be submitted to the Corporation for National and Community Service, 1201 New York Avenue, NW, Washington, D.C. 20525 Attn: David Gurr. The Corporation will not accept applications that are submitted via facsimile or e-mail transmission. Applications submitted via overnight mail that arrive after the closing date will be accepted if they are postmarked at least two days prior to the closing date. Otherwise, late applications will not be accepted.

FOR FURTHER INFORMATION CONTACT: For further information, contact David Gurr, at 202-606-5000, ext. 212.

SUPPLEMENTARY INFORMATION:

A. Background

The Corporation is a Federal government corporation that encourages Americans of all ages and backgrounds to engage in community-based service. This service addresses the nation's educational, public safety, environmental and other human needs to achieve direct and demonstrable results. In doing so, we strive to foster civic responsibility, strengthen the ties that bind us together as a people, and provide educational opportunity for those who make a substantial commitment to service. We support a range of national service programs, including AmeriCorps, Learn and Serve America, and the National Senior Service Corps.

AmeriCorps*VISTA, a component of AmeriCorps, is authorized under the Domestic Volunteer Service Act of 1973, as amended (Pub. L. 93-113). The statutory mandate of AmeriCorps*VISTA is “to strengthen and supplement efforts to eliminate and alleviate poverty and poverty-related problems in the United States by encouraging and enabling persons from all walks of life, all geographical areas, and all age groups * * * (to) assist in the solution of poverty and poverty-related problems, and * * * to generate the commitment of private sector resources, to encourage volunteer service at the local level, and to strengthen local agencies and organizations to carry out the purpose (of the program).” (42 U.S.C. 4951)

AmeriCorps*VISTA carries out its legislative mandate by assigning individuals 18 years and older, on a full-time, year-long basis, to public and private non-profit organizations. Each AmeriCorps*VISTA project must focus on the mobilization of community resources, the transference of skills to community residents, and the expansion of the capacity of community-based organizations to solve local problems. Programming should encourage permanent, long-term solutions to problems confronting low-income communities rather than short-term approaches for handling emergency needs.

AmeriCorps*VISTA projects must actively elicit the support and/or participation of local public and private sector elements in order to enhance the chances of a project's success, as well as to make the activities undertaken by AmeriCorps*VISTA members self-sustaining.

B. Purpose of This Announcement

The purpose of this announcement is to solicit applicants from the service-learning community who will focus efforts solely on addressing the needs of low-income communities. These efforts should be accomplished through community-based organizations and/or institutions of higher education whose efforts draw upon the unique strengths of service-learning as well as learned best practices. The goal of these efforts is the creation of sustained service-learning opportunities and permanent long-term programming that continues to meet the needs of low-income communities after AmeriCorps*VISTA resources are withdrawn.

C. Eligible Applicants

Institutions of higher learning and non-profit organizations engaged in service learning activities, including current Learn and Serve America grantees.

D. Scope of Grant and Project

Each applicant should include in the Application for Federal Assistance (see E.2, below) funds for: a monthly subsistence allowance for AmeriCorps*VISTA members that is commensurate with the cost-of-living of the assignment area, as determined by AmeriCorps*VISTA, that covers the cost of subsistence, utilities, and incidental expenses; an end-of-service cash stipend payment, accrued at the rate of $100 per month, for those members not selecting the AmeriCorps education award of $4,725; and relocation expenses not to exceed $550, for those AmeriCorps*VISTA members who must relocate in order to serve. Each grant applicant should also include in the Application for Federal Assistance, a request for funds for member in-service training, member supervision, and member/supervisor job-related transportation.

Although there are no matching requirements for the receipt of AmeriCorps*VISTA members, applicants should demonstrate their commitment to matching the Federal contribution toward the operation of the AmeriCorps*VISTA project grant by offsetting all, or part of, the costs of member supervision, transportation, and training, as well as the basic costs of the project itself (e.g., space, telephone, etc.). This support can be achieved through cash or in-kind contributions.

Further, applicants are encouraged to share in the costs of the project, including paying for a specified number of AmeriCorps*VISTA positions, to include all costs except for health insurance, the education award, health care and childcare, which will be paid by the Corporation.

Grants will be awarded on a twelve-month basis with a renewal option subject to need, satisfactory performance, and the availability of Corporation resources. Publication of this announcement does not obligate the Corporation to award any specific number of grants or to obligate the entire amount of funds available, or any part thereof, for grants under the AmeriCorps*VISTA Program, or to approve any specific number of non-grant projects for the placement of AmeriCorps*VISTA members.

E. Submission Requirements

To be considered for funding, applicants must submit one signed original and two copies, of the AmeriCorps*VISTA application form. Each must contain an original signature in all sections where it is required. In addition, applicants must include the following:

1. A one-page narrative summary description, single-spaced, single-sided, of the proposed AmeriCorps*VISTA project including the name, address, telephone number, and contact person for the applicant organization. The summary should include the major objectives and expected long-term outcomes of the project. The summary will be used as a project abstract to provide reviewers with an introduction to the substantive parts of the application. Therefore, care should be taken to produce a summary that accurately and concisely reflects the proposal.

2. Application for Federal Assistance (SF 424) (OMB Approval No. 0348-0043), including the Part II Budget. This is a standard form used by applicants as a required face sheet for applications requesting Federal assistance. It includes attachments requiring signatures assuring that applicants comply with all other relevant Federal laws, rules and regulations, and certifications that: (a) The applicant has not been debarred from receiving Federal assistance, (b) that it has a drug-free work plan and (c) that it will comply with Federal requirements governing lobbying activities.

3. Part A (CNS Form 1421A) (OMB Control Number 3045-0039) containing a description of the organization's mission, population to be served, experience in the areas of service and specific problems of poverty to be addressed. In addition, the applicant must state the problems it will address, the long-term goals of the project and anticipated outcomes over the entire length of the project and the anticipated impact on the low-income community. Finally, the applicant must describe the activities that the AmeriCorps*VISTA members will perform in accomplishing those goals, the applicant's experience in coordinating the efforts of community volunteers and/or service participants, and the resources that exist to support the project, including the organizations that will serve as collaborators.

4. Part B (CNS Form 1421B) (OMB Control Number 3045-0038) which includes a measurable and quantifiable description of the specific problem(s) the AmeriCorps*VISTA project will address, current activities to address the problem and how AmeriCorps*VISTA members will complement this effort. A work plan must be completed for the first year of the project that contains objectives that are measurable, quantifiable and time-phased by each quarter of the year. Also, there must be a brief description of the applicant organization, its mission and activities, and the low-income population to be served, along with a description of how the project is incorporated into the overall mission of the applicant organization. The applicant must list the tasks and activities of the AmeriCorps*VISTA member assignments, required skills and qualifications of members, and factors to be considered in assigning disabled members. A description is needed of: (a) How project beneficiaries will be involved in the planning of the project, including in its development and implementation and (b) what resources will be provided by the community for a successful project and how the community will be involved in assuring project sustainability. Also, there must be a description of the process for recruiting qualified AmeriCorps*VISTA members, including whether the applicant needs nationally recruited members (members recruited by the Corporation's Office of Recruitment, Selection and Placement), and how members will be supervised. Finally, the applicant needs to state if support will be needed for on-the-job transportation of AmeriCorps*VISTA members, the content of the On-the-Job Orientation of these members, including on-going training and technical assistance available to them, and plans for publicizing the project, recognizing member accomplishments, and community support in sustaining their efforts.

5. Documentation in the form of letters of support from collaborating organizations and/or individuals stating what will be provided by them in the overall project effort.

6. Copy of Articles of Incorporation (not applicable to public entities).

7. List of Board of Directors or governing body (not applicable to public entities).

8. Organizational chart illustrating the location of the AmeriCorps*VISTA project within the overall applicant organization.

9. List of Advisory Council Members if already selected.

10. Tax exempt status: either IRS determination or copy of application to IRS for exemption (not applicable to public entities).

11. Copy of Supervisor's Resume and Job Description.

12. Copy of most recent financial audit if available.

F. Criteria for Project Selection

I. All of the following elements will be used in judging the applications:

a. Getting Things Done

The proposed project must:

1. Address the needs of low-income communities and otherwise comply with the provisions of the Domestic Volunteer Service Act of 1973, as amended (42 U.S.C. 4951 et seq.) applicable to AmeriCorps*VISTA and all applicable published regulations, guidelines, and Corporation policies.

2. Be internally consistent, i.e., the problem statement that demonstrates need, the project work plan, the AmeriCorps*VISTA member assignment description, and all other components must be related logically to each other.

3. Contain clear and measurable objectives/outcomes in the project application for a 12-month period that address the overall objectives of the initiative. Proposed projects must show how the activities of the AmeriCorps*VISTA members contribute to specific outcomes related to increased opportunity for low-income people. It is expected that outcome objectives in the Part B work plan will reflect the evolution of the project over the 12-month period.

4. Indicate how the proposed project complements and/or enhances activities already underway in, or planned for, the community(ies) that will be served by the project. To the extent possible, projects should seek out opportunities to collaborate with other Corporation programs, including Learn and Serve America grantees, as well as with other community partners, including the business sector.

5. Describe how the number of AmeriCorps*VISTA members requested is appropriate for the project goals/objectives, and how the skills requested are appropriate for the assignment(s).

b. Strengthening Communities

The proposed project must:

1. Describe how the project will be sustained after Americorps*VISTA resources are withdrawn from the local low-income community.

2. Demonstrate collaboration with organizations that provide supportive services to enhance project outcomes.

3. Be designed to generate public and/or private sector resources, and to promote local, part-time volunteer service at the low-income community level, not only to assist in the project itself, but also to sustain its efforts after the Corporation ceases its support.

4. Describe in measurable terms the anticipated self-sufficiency outcomes and tangible anti-poverty goals and objectives after AmeriCorps*VISTA resources are withdrawn, including outcomes related to the sustainability and institutionalization of the project activities in addressing and resolving challenges faced by low-income residents of the target community(ies).

c. AmeriCorps*VISTA Member Development

The proposed project must:

1. Clearly state how AmeriCorps*VISTA members will be trained, supervised, and supported to ensure the achievement of project goals and objectives as stated in the Part B work plan.

2. Describe how AmeriCorps*VISTA assignments are designed to utilize the full-time AmeriCorps*VISTA members' time to the maximum extent.

II. Organizational Capacity

The applicant organization must:

1. Ensure that resources needed to achieve project goals and objectives are available.

2. Have the management and technical capability to implement the project successfully.

3. Have an established record or experience in dealing with the issues addressed by the proposed project.

4. Have systems for the evaluation and monitoring of project activities. Applicants must describe the methods that will be used to record progress toward the stated objectives, and procedures that will provide the reporting of project achievement needed to make adjustments and improve program quality.

III. Budget/Cost-Effectiveness

The applicant organization must:

1. Include a budget that adequately supports the program design.

2. Include a budget that adheres to budget guidance provided with the application.

3. Describe how the applicant organization is committing resources necessary for program implementation.

G. Application Review

Proposal Evaluation

To ensure fairness to all applicants, the Corporation reserves the right to take action, up to and including disqualification, in the event that an application fails to comply with any requirements specified in this Notice.

The following weights will be used in judging the elements described above.

1. Program Design (60%) in the following order of importance:

a. Responsiveness to Strengthening Communities Criteria

b. Responsiveness to Getting Things Done Criteria

2. Organizational Capacity (30%).

3. Budget cost-effectiveness (10%).

H. Geographic Diversity

After evaluating the overall quality of the proposal and its responsiveness to the criteria noted above, the Corporation will take into consideration whether funded projects are in areas of high concentration of low-income residents, including for example those in empowerment zones, and enterprise communities.

I. Technical Assistance Conference Call

An informal, technical assistance conference call will be scheduled on Thursday, July 20, 2000, at 2 p.m. E.D.T. All applicants must pre-register by faxing the names, organization and phone number of up to two members planning to participate no later than Tuesday, July 18, 2000. This information should be faxed to Kara Lounsbury at 202-565-2789. Questions may be submitted in advance of the meeting via fax to the above number. If you are unable to participate in the technical assistance conference call but would like the conference materials and a conference transcript, submit your request via fax to the fax number above.

J. Program Authority

Corporation authority to make these grants and approve projects is authorized under Title I, Part A of the Domestic Volunteer Service Act of 1973, as amended (Pub. L. 93-113).

Dated: June 29, 2000.
Matt Dunne,
Director, AmeriCorps*VISTA Program.

[FR Doc. 00-17152 Filed 7-6-00; 8:45 am]

BILLING CODE 6050-28-U